OFFICE OF THE UNITED STATES TRADE REPRESENTATIVE

Generalized System of Preferences (GSP): Notice Regarding the Acceptance of Competitive Need Limitation Waiver and Further Review of Country Practice Petitions for the 2008 Annual Review

AGENCY: Office of the United States Trade Representative.

ACTION: Notice.

SUMMARY: The Office of the United States Trade Representative (USTR) received petitions in connection with the 2008 GSP Annual Review to waive the competitive need limitations (CNLs) on imports of certain products that are eligible for duty-free treatment under the GSP program. This notice announces CNL waiver petitions that are accepted for further review and country practice petitions that continue to be under evaluation for acceptance in the 2008 GSP Annual Review. This notice also sets forth the schedule for comment and public hearings on the CNL waiver petitions, requesting participation in the hearings, submitting pre-hearing and post-hearing briefs, and commenting on the U.S. International Trade Commission (USITC) report on probable economic effects. The list of accepted petitions to waive CNLs and the list of country practice petitions that continue to be under review for acceptance in the 2008 GSP Annual Review are available at: http://www.ustr.gov/Trade_Development/Preference_Programs/GSP/GSP_2008_Annual_Review/Section_Index.html.

FOR FURTHER INFORMATION CONTACT: Tameka Cooper, GSP Program, Office of the United States Trade Representative, 1724 F Street, NW., Room F-214, Washington, DC 20508. The telephone number is (202) 395-6971, the fax number is (202) 395-2961, and the e-mail address is Tameka_Cooper@ustr.eop.gov.

DATES: The GSP regulations (15 CFR Part 2007) provide the schedule of dates for conducting an annual review unless otherwise specified in a Federal Register notice. The current schedule with respect to the review of CNL waiver petitions is set forth below. Notification of any other changes will be given in the Federal Register.

February 13, 2009 Pre-hearing briefs and comments, requests to testify at the GSP Subcommittee Public Hearing, and hearing statements must be submitted by 5 p.m.

February 26, 2009 GSP Subcommittee Public Hearing on all CNL waiver petitions accepted for the 2008 GSP Annual Review in Rooms 1 and 2, 1724 F St., NW., Washington, DC 20508, beginning at 9 a.m.

March 12, 2009 Post-hearing briefs and comments must be submitted by 5 p.m.

May 2009 USITC scheduled to publish report on products for which CNL waivers have been requested in the 2008 GSP Annual Review (cases 2008-14 to 2008-19). Comments on the USITC report on these products are due 10 calendar days after USITC date of publication.

June 30, 2009 Modifications to the list of articles eligible for duty-free treatment under the GSP resulting from the 2008 Annual Review will be announced on or about June 30, 2009, in the Federal Register, and any changes will be effective as announced.

SUPPLEMENTARY INFORMATION: The GSP program provides for the duty-free importation of eligible articles when imported from designated beneficiary developing countries. The GSP program is authorized by Title V of the Trade Act of 1974 (19 U.S.C. 2461, et seq.), as amended (the “1974 Act”), and is implemented in accordance with Executive Order 11888 of November 24, 1975, as modified by subsequent Executive Orders and Presidential Proclamations.

In Federal Register notices dated May 15, 2008, and October 16, 2008, USTR announced that the deadline for the filing of product petitions requesting waivers of “competitive need limitations” (CNLs) for the 2008 GSP Annual Review was November 13, 2008 (73 FR 28174 and 73 FR 61444). The interagency GSP Subcommittee of the Trade Policy Staff Committee (TPSC) has reviewed the CNL waiver petitions, and the TPSC has decided to accept for review the following petitions:

(1) Amino-naphthols and amino-phenol, their ethers, esters, except those with more than one kind of oxygen function; and salts thereof, nesoi from Brazil (HTS 2922.41.00);

(2) Polyethylene terephthalate in primary forms (PET resin) from Indonesia (HTS 3907.60.00);

(3) Full grain unsplit bovine (not buffalo) & equine leather, not whole, w/o hair on, nesoi from Argentina (HTS 4107.91.80);

(4) Ferrochromium containing by weight more than 4 percent of carbon from India (HTS 7202.41.00);

(5) Calcium silicon ferroalloys from Argentina (HTS 7202.99.20); and

(6) Copper, stranded wire, not electrically insulated, not fitted with fittings and not made up into articles from Turkey (HTS 7413.00.10).

Additional information regarding these petitions is provided in the “List of CNL Waiver Petitions Accepted in the 2008 GSP Annual Review” posted on the USTR Web site. Included in the list regarding each petition that has been accepted for review are: The case number; the Harmonized Tariff Schedule of the United States (HTSUS) subheading number; a brief description of the product (see the HTSUS for an authoritative description available on the USITC Web site (http://www.usitc.gov/tata/hts/)); and the petitioner. Acceptance of a petition for review does not indicate any opinion with respect to the disposition on the merits of the petition. Acceptance indicates only that the listed petitions have been found eligible for review by the TPSC and that such review will take place.

Notice of Public Hearing

The GSP Subcommittee of the TPSC will hold a hearing on February 26, 2009, for CNL waiver product petitions accepted for the 2008 GSP Annual Review, beginning at 9 a.m. at the Office of the U.S. Trade Representative, Rooms 1 and 2, 1724 F Street, NW., Washington, DC 20508. The hearing will be open to the public, and a transcript of the hearing will be available for public inspection or can be purchased from the reporting company. No electronic media coverage will be allowed.

Submission of Requests To Testify at the Public Hearing and Hearing Statements

All interested parties wishing to testify at the hearing must submit, by 5 p.m., February 13, 2009, a “Notice of Intent to Testify” and “Hearing Statement” to http://www.regulations.gov (following the procedures indicated in “Requirements for Submissions”), the witness” or witnesses' name, address, telephone number, fax number, e-mail address, pertinent Case Number and eight-digit HTSUS subheading number. Oral testimony before the GSP Subcommittee will be limited to one, five-minute presentation in English. If those testifying intend to submit a longer “Hearing Statement” for the record, it must be in English and accompany the “Notice of Intent to Testify” to be submitted by 5 p.m. on February 13, 2009.

Opportunities for Public Comment and Inspection of Comments

In addition to holding a public hearing, the GSP Subcommittee of the TPSC invites briefs and comments in support of or in opposition to any CNL waiver petition that has been accepted for the 2008 GSP Annual Review. Parties not wishing to appear at the public hearing but wishing to submit pre-hearing briefs or statements, in English, must do so by 5 p.m., February 13, 2009. Post-hearing briefs or statements will be accepted if they conform with the “Requirements for Submissions” cited above and are submitted, in English, by 5 p.m., March 12, 2009.

In accordance with sections 503(d)(1)(A) of the 1974 Act and the authority delegated by the President, pursuant to section 332(g) of the Tariff Act of 1930, the U.S. Trade Representative has requested that the USITC provide its advice on the probable economic effect on U.S. industries producing like or directly competitive articles and on consumers of the waiver of the CNL for the specified GSP beneficiary countries, with respect to the articles that are specified in the “List of CNL Waiver Submissions Accepted in the 2008 GSP Annual Review.” Comments by interested persons on the USITC Report prepared as part of the product review should be submitted by 5 p.m., 10 calendar days after the date of USITC publication of its report. These submissions are to be submitted using http://www.regulations.gov in accordance with “Requirements for Submissions.”

Submissions should comply with 15 CFR Part 2007, except as modified below. All submissions should identify the subject article(s) in terms of the case number and eight digit HTSUS subheading number, if applicable, as shown in the “List of CNL Waiver Petitions Accepted in the 2008 GSP Annual Review” available at: http://www.ustr.gov/Trade_Development/Preference_Programs/GSP/GSP_2008_Annual_Review/Section_Index.html.

[2008 GSP Review, List of CNL Waiver Petitions Accepted in the 2008 GSP Annual Review]

Requirements for Submissions

Submissions of pre-hearing and post-hearing briefs and comments provided in response to this notice, with the exception of business confidential submissions, must be submitted electronically using http://www.regulations.gov, docket number USTR-2008-0045. Hand-delivered submissions will not be accepted. Submissions must be submitted in English by the applicable deadlines set forth in this notice.

For additional information on using the www.regulations.gov Web site or for any technical assistance relating to a submission, please consult the resources provided on the Web site by clicking on “How to Use This Site” on the left side of the home page. Each submitter will receive a submission tracking number upon completion of the submissions procedure at http://www.regulations.gov. The tracking number will be the submitter's confirmation that the submission was received into http://www.regulations.gov. The confirmation should be kept for the submitter's records. USTR is not responsible for any delays in a submission due to technical difficulties, nor is it able to provide any technical assistance for the Web site.

To make a submission using http://www.regulations.gov, enter docket number USTR-2008-0045 on the home page and click “go.” The site will provide a search-results page listing all documents associated with this docket. Find a reference to this notice by selecting “Notice” under “Document Type” on the left side of the search-results page, and click on the link entitled “Send a Comment or Submission.” The http://www.regulations.gov Web site offers the option of providing comments by filling in a “General Comments” field or by attaching a document. Given the detailed nature of the information sought by the GSP Subcommittee, it is expected that most comments and submissions will be provided in an attached document. If a document is attached, (1) type the eight-digit HTSUS subheading number; as appropriate; (2) indicate whether the attachment is “Written Comments,” “Notice of Intent to Testify,” “Pre-hearing brief,” “Post-hearing brief,” or “Comments on USITC Advice; and (3) type in “See attached” in the “General Comments” field. Submissions must be in English, with the total submission not to exceed 30 single-spaced standard letter-size pages in 12-point type, including attachments. Any data attachments to the submission should be included in the same file as the submission itself, and not as separate files.

Submissions must include, on the first page (if an attachment) or at the beginning of the submission, the following text (in bold and underlined): (1) 2008 GSP Annual Review; (2) the Case Number; (3) the eight-digit HTSUS subheading number; and (4) as appropriate, “Written Comments,” “Notice of Intent to Testify,” “Pre-hearing brief,” “Post-hearing brief,” or “Comments on USITC Advice”. The case number and eight-digit HTSUS subheading number (for example, Case 2008-19, 7413.00.10) are found on the “List of CNL Waiver Petitions Accepted in the 2008 GSP Annual Review” on the USTR Web site.

Submissions will be placed in the docket and open to public inspection pursuant to 15 CFR § 2007.6. Submissions may be viewed on the http://www.regulations.gov Web site by entering the docket number USTR-2008-0045 in the search field at: http://www.regulations.gov.

Business Confidential Submissions

Persons wishing to submit business confidential information must submit that information by electronic mail to FR0807@ustr.eop.gov. Business confidential submissions will not be accepted at http://www.regulations.gov; however, public or non-confidential submissions that accompany business confidential submissions should be submitted at http://www.regulations.gov. For any document containing business confidential information submitted as a file attached to an e-mail transmission, the file name of the business confidential version should begin with the characters “BC.” The “BC” should be followed by the name of the party (government, company, union, association, etc.) that is making the submission.

Persons wishing to submit business confidential submissions must also follow each of these steps: (1) Provide a written explanation of why the information should be protected in accordance with 15 CFR 2007.7(b), which must be submitted along with the business confidential version of the submission; (2) clearly mark the business confidential submission “BUSINESS CONFIDENTIAL” at the top and bottom of each page of the submission; (3) indicate using brackets what information in the document is confidential; and (4) submit a non-confidential version of the submission, marked “Public” at the top and bottom of each page, that also indicates, using asterisks, where business confidential information was redacted or deleted from the applicable sentences to http://www.regulations.gov. Business confidential submissions that are submitted without the required markings or are not accompanied by a properly marked non-confidential version, as set forth above, might not be accepted or may be considered public documents. The non-confidential summary will be placed in the docket and open to public inspection.

Public versions of all documents relating to this review will be made available for public viewing at http://www.regulations.gov upon completion of processing and no later than approximately two weeks after the relevant due date.

Petitions for Review Regarding Country Practices

Pursuant to 15 CFR 2007.0(b), the GSP Subcommittee of the TPSC has continued the evaluation of the country practice petitions for Iraq and Sri Lanka that were submitted for inclusion in the 2008 GSP Annual Review (see “List of Petitions Accepted in the 2008 GSP Annual Review” posted on the USTR Web site). This decision was announced in a Federal Register notice dated September 12, 2008, 73 FR 53054, and indicated that the decision on whether to accept the new country practice petitions for Iraq and Sri Lanka for review in the 2008 GSP Annual Review was planned for January 2009. The decision regarding whether to accept these new country practice petitions in December 2008, including a petition submitted in December 2008 requesting a country practices review with respect to the Republic of the Philippines, is now expected to be announced no later than March 15, 2009. A Federal Register notice will be published announcing the decision on whether to accept the petitions.

Marideth Sandler,
Executive Director, Generalized System of Preferences (GSP) Program, Office of the U.S. Trade Representative.

[FR Doc. E9-1149 Filed 1-16-09; 8:45 am]

BILLING CODE 3190-W9-P